DEPARTMENT OF HEALTH AND HUMAN SERVICES

National Committee on Vital and Health Statistics: Meeting

Pursuant to the Federal Advisory Committee Act, the Department of Health and Human Services (HHS) announces the following advisory committee meeting.

NAME: National Committee on Vital and Health Statistics (NCVHS), National Health Information Infrastructure Workgroup, Health Statistics for the 21st Century Workgroup.

TIME AND DATE: December 19, 2000, 10 a.m.-4 p.m.

PLACE: Hubert H. Humphrey Building, 200 Independence Avenue, SW, Conference Room 425A, Washington, DC 20201.

STATUS: Open.

PURPOSE: The National Health Information Infrastructure Workgroup and the Health Statistics for the 21st Century Workgroup will meet in a joint planning session to discuss further integration of the issues reviewed in their interim reports: “Toward a National Health Information Infrastructure” and “Shaping a Vision for 21st Century Health Statistics.” The working groups will also discuss the development of a complementary framework for their final reports. The interim reports may be downloaded from the NCVHS homepage at: http://www.ncvhs.hhs.gov/.

NOTICE: In the interest of security, HHS has instituted stringent procedures for entrance to the Hubert H. Humphrey building by non-government employees. Persons without a government identification card may need to have the guard call for an escort to the meeting.

CONTACT PERSON FOR MORE INFORMATION: Substantive program information as well as summaries of meetings and a roster of committee members may be obtained from Marjorie S. Greenberg, Executive Secretary, NCVHS, National Center for Health Statistics, Centers for Disease Control and Prevention, Room 1100, Presidential Building, 6525 Belcrest Road, Hyattsville, Maryland 20782, telephone (301) 458-4245. Information also is available on the NCVHS home page of the HHS website: http://www.ncvhs.hhs.gov/.

Dated: November 17, 2000.
James Scanlon,
Director, Division of Data Policy, Office of the Assistant Secretary for Planning and Evaluation.

[FR Doc. 00-30094 Filed 11-24-00; 8:45 am]

BILLING CODE 4151-05-M